DEPARTMENT OF TRANSPORTATION

Research and Special Programs Administration

49 CFR Parts 171, 172, 173, 177, and 178

[Docket No. RSPA-98-3971 (HM-226)]

RIN 2137-AD13

Hazardous Materials: Revision to Standards for Infectious Substances; Correction

AGENCY: Research and Special Programs Administration (RSPA), DOT.

ACTION: Correction to final rule effective date.

SUMMARY: This document corrects the effective dates for a final rule revising transportation requirements for infectious substances, published in the Federal Register on August 14, 2002 (67 FR 53118). The effective date for the final rule and the incorporation by reference approval date are corrected to February 14, 2003.

DATES: The effective date of the final rule amending 49 CFR Parts 171, 172, 173, 177, and 178, published at 67 FR 53118 on August 14, 2002, is corrected to February 14, 2003.

The incorporation by reference of publications listed in this final rule has been approved by the Director of the Federal Register as of February 14, 2003.

FOR FURTHER INFORMATION CONTACT: Susan Gorsky (202) 366-8553, Office of Hazardous Materials Standards, Research and Special Programs Administration.

SUPPLEMENTARY INFORMATION:

Background

On August 14, 2002, the Research and Special Programs Administration issued a final rule to revise the Hazardous Materials Regulations (HMR; 49 CFR Parts 171-180) as they apply to the transportation of infectious substances. The published effective date was October 1, 2002.

Need for Correction

The October 1, 2002 effective date does not provide sufficient time for all segments of the industry to come into compliance with the new requirements.

Correction

In rule document 02-20118, on page 53118 in the issue of Wednesday, August 14, 2002, make the following correction:

On page 53118 in the first column, in the DATES section, the effective dates of the final rule and the IBR approval are corrected to read as set forth above in the DATES section of this document.

Issued in Washington, DC on August 16, 2002 under authority delegated in 49 CFR Part 106.
Ellen G. Engleman,
Administrator, Research and Special Programs Administration.

[FR Doc. 02-21473 Filed 8-26-02; 8:45 am]

BILLING CODE 4910-60-P